DEPARTMENT OF HOMELAND SECURITY

[Docket No. DHS-2010-0010]

National Protection and Programs Directorate; Guidance Document Request and Evaluation

AGENCY: National Protection and Programs Directorate, DHS.

ACTION: 60-Day notice and request for comments; new information collection request: 1670-NEW.

SUMMARY: The Office of Emergency Communications (OEC) has submitted the following Information Collection Request (ICR) to the Office of Management and Budget (OMB) for review and clearance in accordance with the Paperwork Reduction Act of 1995 (Pub. L. 104-13, 44 U.S.C. Chapter 35).

DATES: Comments are encouraged and will be accepted until May 3, 2010. This process is conducted in accordance with 5 CFR 1320.1.

ADDRESSES: Written comments and questions about this Information Collection Request should be forwarded to NPPD/CS&C/OEC, Attn.: Jonathan Clinton, Jonathan.Clinton@dhs.gov Written comments should reach the contact person listed no later than May 3, 2010. Comments must be identified by “DHS-2010-0010” and may be submitted by one of the following methods:

• Federal eRulemaking Portal: http://www.regulations.gov.

• E-mail: Jonathan.Clinton@dhs.gov. Include the docket number in the subject line of the message.

Instructions: All submissions received must include the words “Department of Homeland Security” and the docket number for this action. Comments received will be posted without alteration at http://www.regulations.gov, including any personal information provided.

SUPPLEMENTARY INFORMATION: OEC was formed under Title XVIII of the Homeland Security Act of 2002, 6 U.S.C. 101 et seq., as amended, and requires OEC to foster the development of interoperable emergency communications capabilities and to facilitate the sharing of information on best practices for achieving, maintaining, and enhancing interoperable emergency communications capabilities. OEC meets these requirements, in part, by developing and disseminating guidance documents on interoperable emergency communications issues. The guidance document request form and the guidance document evaluation form will help OEC stakeholders to, first, request the guidance documents and, second, to assess the effectiveness of the guidance documents. OEC will use the request form to track the request for and dissemination of the guidance documents to stakeholders. OEC will use the evaluation information for continuous improvement to its documents. Guidance document request forms and evaluation forms will primarily be submitted electronically. They may also be submitted in paper form at conferences, meetings, and other events. OMB is particularly interested in comments which:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Department of Homeland Security, National Protection and Programs Directorate.

Title: Guidance Document Request and Evaluation.

Form: Not Applicable.

OMB Number: 1670-NEW.

Frequency: On occasion.

Affected Public: State, local, or tribal government.

Number of Respondents: 5,000.

Estimated Time per Respondent: 20 minutes.

Total Burden Hours: 1,667 annual burden hours.

Total Burden Cost (capital/startup): $0.

Total Burden Cost (operating/maintaining): $40,708.14.

Signed: February 19, 2010.
Thomas Chase Garwood, III,
Chief Information Officer, National Protection and Programs Directorate, Department of Homeland Security.

[FR Doc. 2010-4346 Filed 3-2-10; 8:45 am]

BILLING CODE 9110-9P-P